NATIONAL SCIENCE FOUNDATION

Sunshine Act Meeting

SUMMARY: The National Science Board's Executive Committee (EC), pursuant to National Science Foundation regulations, the National Science Foundation Act, as amended, and the Government in the Sunshine Act, hereby gives notice of the scheduling of a teleconference for the transaction of National Science Board business, as follows.

DATES: Thursday, July 2, 2020, from 10-11:00 a.m. EDT.

PLACE: This meeting will be held by teleconference through the National Science Foundation. An audio link will be available for the public. Members of the public must contact the Board Office to request the public audio link at least 24 hours prior to the teleconference at this email address: nationalsciencebrd@nsf.gov.

STATUS: Open.

MATTERS TO BE CONSIDERED: Committee Chair's opening remarks; approval of Executive Committee minutes of April 10, 2020; and discuss issues and topics for an agenda of the NSB meetings scheduled for July 29-30, 2020.

CONTACT PERSON FOR MORE INFORMATION: Point of contact for this meeting is: James Hamos, 2415 Eisenhower Avenue, Alexandria, VA 22314. Telephone: 703/292-8000. Email: jhamos@nsf.gov. Members of the public must contact the National Science Board Office to request the public audio link by sending an email to nationalsciencebrd@nsf.gov at least 24 hours prior to the teleconference. Meeting information and updates may be found at http://www.nsf.gov/nsb/notices/.jsp#sunshine. Please refer to the National Science Board website at www.nsf.gov/nsb for general information.

Chris Blair,
Executive Assistant to the National Science Board Office.

[FR Doc. 2020-13934 Filed 6-24-20; 4:15 pm]

BILLING CODE 7555-01-P